BUREAU OF CONSUMER FINANCIAL PROTECTION

12 CFR Part 1006

[Docket No. CFPB-2020-0010]

RIN 3170-AA41

Debt Collection Practices (Regulation F); Extension of Comment Period

AGENCY: Bureau of Consumer Financial Protection.

ACTION: Supplemental notice of proposed rulemaking; extension of comment period.

SUMMARY: On March 3, 2020, the Bureau of Consumer Financial Protection (Bureau) published in the Federal Register a Supplemental Notice of Proposed Rulemaking (SNPRM) requesting comment on the Bureau's proposal to amend Regulation F, which implements the Fair Debt Collection Practices Act (FDCPA), to require debt collectors to make certain disclosures when collecting time-barred debts. The SNPRM provided a 60-day comment period that was set to close on May 4, 2020. To allow interested persons more time to consider and submit their comments, the Bureau has determined that an extension of the comment period until June 5, 2020, is appropriate.

DATES: The comment period for the debt collection SNPRM published March 3, 2020, at 85 FR 12672, is extended. Responses to the SNPRM must now be received on or before June 5, 2020.

ADDRESSES: You may submit comments, identified by Docket No. CFPB-2020-0010 or RIN 3170-AA41, by any of the following methods:

• Federal eRulemaking Portal: http://www.regulations.gov. Follow the instructions for submitting comments.

• Email: 2020-NPRM-DebtCollection@cfpb.gov. Include Docket No. CFPB-2020-0010 or RIN 3170-AA41 in the subject line of the email.

• Mail/Hand Delivery/Courier: Comment Intake, Bureau of Consumer Financial Protection, 1700 G Street NW, Washington, DC 20552.

Instructions: The Bureau encourages the early submission of comments. All submissions should include the agency name and docket number or Regulatory Information Number (RIN) for this rulemaking. Because paper mail in the Washington, DC area and at the Bureau is subject to delay, commenters are encouraged to submit comments electronically. In general, all comments received will be posted without change to http://www.regulations.gov. In addition, comments will be available for public inspection and copying at 1700 G Street NW, Washington, DC 20552, on official business days between the hours of 10:00 a.m. and 5:00 p.m. Eastern Time. You can make an appointment to inspect the documents by telephoning 202-435-9169.

All comments, including attachments and other supporting materials, will become part of the public record and subject to public disclosure. Proprietary or sensitive personal information, such as account numbers, Social Security numbers, or names of other individuals, should not be included. Comments will not be edited to remove any identifying or contact information.

FOR FURTHER INFORMATION CONTACT: Seth Caffrey or Kristin McPartland, Senior Counsels, Office of Regulations, at 202-435-7700. If you require this document in an alternative electronic format, please contact CFPB_accessibility@cfpb.gov.

SUPPLEMENTARY INFORMATION: On February 21, 2020, the Bureau issued an SNPRM proposing to amend Regulation F, 12 CFR part 1006, to prescribe Federal rules governing the activities of debt collectors, as that term is defined in the FDCPA. The SNPRM was published in the Federal Register on March 3, 2020.¹ The SNPRM proposed to require debt collectors to make certain disclosures when collecting time-barred debts.

¹ 85 FR 12672 (Mar. 3, 2020).

The SNPRM provided a 60-day public comment period that was set to close on May 4, 2020. Given the challenges posed by the COVID-19 (coronavirus infection) pandemic, we have received requests from stakeholders to give interested parties more time to conduct outreach to relevant constituencies and to properly address the many questions presented in the SNPRM. The Bureau believes that an extension of the SNPRM comment period to June 5, 2020, is appropriate. This extension should allow interested parties more time to prepare responses to the SNPRM without delaying the rulemaking. The SNPRM comment period will now close on June 5, 2020.

Kathleen L. Kraninger,
Director, Bureau of Consumer Financial Protection.

[FR Doc. 2020-06237 Filed 3-26-20; 8:45 am]

BILLING CODE 4810-AM-P